DEPARTMENT OF EDUCATION

Office of Special Education and Rehabilitative Services; List of Correspondence

AGENCY: Department of Education.

ACTION: List of Correspondence from July 1, 2006 through September 30, 2006.

SUMMARY: The Secretary is publishing the following list pursuant to section 607(f) of the Individuals with Disabilities Education Act, as amended by the Individuals with Disabilities Education Improvement Act of 2004 (IDEA). Under section 607(f) of IDEA, the Secretary is required, on a quarterly basis, to publish in the Federal Register a list of correspondence from the U.S. Department of Education (Department) received by individuals during the previous quarter that describes the interpretations of the Department of IDEA or the regulations that implement IDEA.

FOR FURTHER INFORMATION CONTACT: Melisande Lee or JoLeta Reynolds. Telephone: (202) 245-7468.

If you use a telecommunications device for the deaf (TDD), you may call the Federal Relay Service (FRS) at 1-800-877-8339.

Individuals with disabilities may obtain a copy of this notice in an alternative format (e.g., Braille, large print, audiotape, or computer diskette) on request to the contact persons listed under FOR FURTHER INFORMATION CONTACT.

SUPPLEMENTARY INFORMATION: The following list identifies correspondence from the Department issued from July 1, 2006 through September 30, 2006. Included on the list are those letters that contain interpretations of the requirements of IDEA and its implementing regulations, as well as letters and other documents that the Department believes will assist the public in understanding the requirements of the law and its regulations. The date of and topic addressed by a letter are identified, and summary information is also provided, as appropriate. To protect the privacy interests of the individual or individuals involved, personally identifiable information has been deleted, as appropriate.

Part A—General Provisions

Section 602—Definitions

Topic Addressed: Child With a Disability

○ Letter dated July 11, 2006 to individuals (personally identifiable information redacted), regarding whether a State must use the term “mental retardation” or any other terms contained in the definition of “child with a disability” from Part B of IDEA when describing children eligible for services under IDEA and State law.

Topic Addressed: Special Education and Related Services

○ Letter dated September 19, 2006 to U.S. Senator Judd Gregg, regarding the maintenance and programming of surgically implanted medical devices, including cochlear implants.

Part B—Assistance for Education of All Children with Disabilities

Section 612—State Eligibility

Topic Addressed: Maintenance of Effort

○ Letter dated July 26, 2006 to Maryland State Department of Education Assistant Superintendent Carol Ann Baglin, regarding the maintenance of effort requirements in Part B of IDEA that apply to local educational agencies (LEAs) and a State educational agency's responsibilities to ensure that its LEAs comply with these requirements. OTHER LETTERS NOT DIRECTLY RELATED TO IDEA OR THE IDEA REGULATIONS BUT THAT MAY BE OF INTEREST TO THE PUBLIC

Topic Addressed: Highly Qualified Teachers

○ Letter dated September 5, 2006 to Chief State School Officers, regarding efforts to ensure that all core academic subjects are taught by highly qualified and effective teachers and asking States to restrict the use of High Objective Uniform State Standard of Evaluation (HOUSSE) procedures to certain situations.

Topic Addressed: Confidentiality of Education Records

○ Letter dated February 2, 2006 to Pennsylvania Department of Education Assistant Counsel Karen S. Feuchtenberger, from Family Policy Compliance Office Director LeRoy S. Rooker, regarding whether, under the Family Educational Rights and Privacy Act, a charter school may disclose certain personally identifiable information from the education records of a child with a disability, in the absence of parent consent, to the child's school district of residence in order to obtain an additional State subsidy for children with disabilities receiving special education and related services at the charter school.

Electronic Access to This Document

You may view this document, as well as all other Department of Education documents published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.027, Assistance to States for Education of Children with Disabilities)

Dated: May 15, 2007.
John H. Hager,
Assistant Secretary for Special Education and Rehabilitative Services.

[FR Doc. E7-9749 Filed 5-18-07; 8:45 am]

BILLING CODE 4000-01-P